DEPARTMENT OF ENERGY

Federal Energy Regulatory Commission

[Docket No. PF12-18-000; Docket No. PF12-20-000]

LNG Development Company, LLC and Oregon Pipeline Company; Northwest Pipeline GP; Notice of Extension of Comment Period for the Oregon LNG Export and Washington Expansion Projects

This notice announces the extension of the public scoping process and comment period for the Oregon LNG Export Project proposed by LNG Development Company, LLC and Oregon Pipeline Company (collectively referred to as Oregon LNG), in Docket No. PF12-18-000 and the Washington Expansion Project proposed by Northwest Pipeline GP (Northwest), in Docket No. PF12-20-000. Please note that the scoping period will now close on December 24, 2012.

On September 24, 2012, the Federal Energy Regulatory Commission (FERC or Commission) issued a Notice of Intent to Prepare an Environmental Impact Statement for the Proposed Oregon LNG Export Project and Washington Expansion Project, Request for Comments on Environmental Issues, and Notice of Public Scoping Meetings (NOI). The NOI solicited comments on the potential environmental impacts of the proposed projects and announced the times and locations of eight public meetings. The public scoping meetings were held the week of October 15, 2012. The environmental comments received will allow the FERC staff and staffs of cooperating agencies to focus attention on issues important to the public during our preparation of an Environmental Impact Statement (EIS) for the projects.

You can submit written comments to the Commission. In order for your written comments to be considered and addressed in the EIS, they should be properly filed with the Commission. There are three methods you can use to submit your comments to the FERC. In all instances, please reference the docket numbers for these projects (PF12-18-000 and PF12-20-000) with your submission.

(1) You can file your comments electronically using the eComment feature located on the Commission's Web site (www.ferc.gov) under the Documents & Filings link. This is an easy method for interested persons to submit brief, text-only comments on a project;

(2) You can file your comments electronically using the eFiling feature located on the Commission's Web site (www.ferc.gov) under the Documents & Filings link. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

If you have questions about electronic filings with the FERC, feel free to call our information technology experts at FERC Online Support at 202-502-6652 or email ferconlinesupport@ferc.gov; or 202-502-8258 or email efiling@ferc.gov.

Dated: November 1, 2012.
Kimberly D. Bose,
Secretary.

[FR Doc. 2012-27177 Filed 11-6-12; 8:45 am]

BILLING CODE 6717-01-P